NATIONAL AERONAUTICS AND SPACE ADMINISTRATION

[Notice 13-071]

Privacy Act of 1974; Privacy Act System of Records

AGENCY: National Aeronautics and Space Administration (NASA).

ACTION: Notice of Privacy Act system of records.

SUMMARY: Each Federal agency is required by the Privacy Act of 1974 to publish a description of the systems of records it maintains containing personal information when a system is substantially revised, deleted, or created. In this notice, NASA provides the required information for a new system of records related to NASA's Astronaut Candidate Selection System. This new system will help streamline and expedite NASA's selection of astronauts, in accordance with requirements set forth in 14 CFR part 1214, Subpart 1214.11, NASA Astronaut Candidate Recruitment and Selection Program.

DATES: Submit comments on or before 60 calendar days from the date of this publication.

ADDRESSES: Patti F. Stockman, NASA Privacy Act Officer, Office of the Chief Information Officer, NASA Headquarters, Washington, DC 20546-0001, 202-358-4787, NASA-PAOfficer@nasa.gov.

FOR FURTHER INFORMATION CONTACT: NASA Privacy Act Officer, Patti F. Stockman, 202-358-4787, NASA-PAOfficer@nasa.gov.

NASA 10ACSR

SYSTEM NAME:

Astronaut Candidate Selection Records.

SECURITY CLASSIFICATION:

None.

SYSTEM LOCATION:

Location 5, as set forth in Appendix A.

CATEGORIES OF INDIVIDUALS COVERED BY THE SYSTEM:

This system maintains information on persons who have applied to the agency for consideration as candidates for and recipients of training associated with NASA Astronaut and Human Space Flight Programs.

CATEGORIES OF RECORDS IN THE SYSTEM:

Records in this system include identifying information for the individuals in employment applications and resumes and records of specialized training, honors and awards. The system also contains relevant human resource correspondence, records an individual's qualifications for participation in a specialized program, evaluations of candidates, and final NASA determinations of candidates' qualification for the program.

AUTHORITY FOR MAINTENANCE OF THE SYSTEM:

51 U.S.C. 20113; 44 U.S.C. 3101; 5 U.S.C. 3301, 3307, 3308, 3311, 3312, and 3325.

ROUTINE USES OF RECORDS MAINTAINED IN THE SYSTEM, INCLUDING CATEGORIES OF USERS AND THE PURPOSE OF SUCH USES:

NASA standard routine uses, as set forth in Appendix B.

POLICIES AND PRACTICES FOR STORING, RETRIEVING, ACCESSING, RETAINING, AND DISPOSING OF RECORDS IN THE SYSTEM:

STORAGE:

Stored on a secure server as electronic records.

RETRIEVABILITY:

Records are retrieved from the system by any one or a combination of name, Discipline Area, or unique identification number.

SAFEGUARDS:

Records are maintained within a secure, electronic database and protected in accordance with the requirements and procedures of the NASA regulations at 14 CFR 1212.605, utilizing database servers with self-encrypting “data-at-rest” technologies, located in secured, monitored, restricted access rooms. An approved security plan for this system has been established in accordance with OMB Circular A-130, Management of Federal Information Resources. Only key authorized employees with appropriately configured system roles can access the system through approved authentication methods, and only from workstations within the NASA Intranet or via a secure VPN connection that requires two-factor authentication.

RETENTION AND DISPOSAL:

No records are authorized for disposal at this time, but will be transferred to NARA after 7 years of creation in accordance with Disposition Authority DAA-0255-2013-0001, once approved by the National Archives and Records Administration and incorporated into NASA Records Retention Schedules as Schedule 8, Item 35.

SYSTEM MANAGERS AND ADDRESSES:

Astronaut Candidate Program Manager, Location 5, as set forth in Appendix A.

NOTIFICATION PROCEDURE:

Individuals interested in inquiring about their records should notify the System Manager at the address given above.

RECORD ACCESS PROCEDURE:

Individuals who wish to gain access to their records should submit their request in writing to the system manager.

CONTESTING RECORD PROCEDURES:

The NASA regulations pertaining to access to records and for contesting contents and appealing initial determinations by individual concerned are set forth in 14 CFR 1212.4.

RECORD SOURCE CATEGORIES:

Civil servant application information is received by the NASA Astronaut Candidate Selection System from applicants themselves via an electronic interface with the NASA Enterprise Application Competency Center (NEACC) that receives a portion of all records from the USAJobs.gov Web site, operated by the United States Office of Personnel Management (OPM), and into which applicants enter their own application data. Candidate Qualification input is received directly from individuals used as references who have direct knowledge of applicant capabilities. In certain circumstances, updates to this information may be submitted by the individual on whom the record is maintained and/or the NASA Personnel Office(s).

Dated: June 28, 2013.
Richard J. Keegan, Jr.,
NASA Chief Information Officer (Acting).

[FR Doc. 2013-16193 Filed 7-3-13; 8:45 am]

BILLING CODE 7510-13-P